DEPARTMENT OF COMMERCE

International Trade Administration

[A-549-822]

Certain Frozen Warmwater Shrimp From Thailand: Preliminary Results of Antidumping Duty Administrative Review and Preliminary No Shipment Determination

AGENCY: Import Administration, International Trade Administration, Department of Commerce.

SUMMARY: The Department of Commerce (Department) is conducting an administrative review of the antidumping duty order on certain frozen warmwater shrimp (shrimp) from Thailand with respect to 152 companies. The respondents which the Department selected for individual examination are Marine Gold Products Co., Ltd. (MRG) and Pakfood Public Company Limited and its affiliated subsidiaries (collectively, “Pakfood”).¹ The respondents which were not selected for individual examination are listed in the “Preliminary Results of Review” section of this notice. This is the fifth administrative review of this order. The period of review (POR) is February 1, 2009, through January 31, 2010.

¹ These subsidiaries are: Okeanos Co., Ltd., Okeanos Food Co., Ltd., Takzin Samut Co., Ltd., Chaophraya Cold Storage Co., Ltd., and Asia Pacific (Thailand) Company Ltd.

We preliminarily determine that sales made by MRG and Pakfood have been made at below normal value (NV) and, therefore, are subject to antidumping duties. In addition, based on the preliminary results for the respondents selected for individual examination, we have preliminarily determined a margin for those companies that were not individually examined.

If the preliminary results are adopted in our final results of administrative review, we will instruct U.S. Customs and Border Protection (CBP) to assess antidumping duties on all appropriate entries. Interested parties are invited to comment on the preliminary results.

DATES: Effective Date: March 4, 2011.

FOR FURTHER INFORMATION CONTACT: Blaine Wiltse or Holly Phelps, AD/CVD Operations, Office 2, Import Administration, International Trade Administration, U.S. Department of Commerce, 14th Street and Constitution Avenue, NW., Washington, DC 20230; telephone: (202) 482-6345 or (202) 482-0656, respectively.

SUPPLEMENTARY INFORMATION:

Background

In February 2005, the Department published in the Federal Register an antidumping duty order on certain frozen warmwater shrimp from Thailand. See Notice of Amended Final Determination of Sales at Less Than Fair Value and Antidumping Duty Order: Certain Frozen Warmwater Shrimp from Thailand, 70 FR 5145 (Feb. 1, 2005) (Shrimp Order). On February 1, 2010, the Department published in the Federal Register a notice of opportunity to request an administrative review of the antidumping duty order of certain frozen warmwater shrimp from Thailand for the period February 1, 2009, through January 31, 2010. See Antidumping or Countervailing Duty Order, Finding, or Suspended Investigation; Opportunity to Request Administrative Review, 75 FR 5037 (Feb. 1, 2010). In response to timely requests from interested parties pursuant to 19 CFR 351.213(b)(1) and (2) to conduct an administrative review of the U.S. sales of shrimp by numerous Thai producers/exporters, the Department published a notice of initiation of administrative review for 153 companies. See Certain Frozen Warmwater Shrimp from Brazil, India, and Thailand: Notice of Initiation of Antidumping Duty Administrative Reviews, 75 FR 17693 (Apr. 7, 2010) (Initiation Notice).²

² In the Initiation Notice, the Department separately listed Bright Sea Co., Ltd. in the list of companies under review. However, in the original investigation, the Department found that The Union Frozen Products Co., Ltd. and Bright Sea Co., Ltd. comprised a single entity. See Notice of Final Determination of Sales at Less Than Fair Value and Negative Final Determination of Critical Circumstances: Certain Frozen and Canned Warmwater Shrimp from Thailand, 69 FR 76918 (Dec. 23, 2004). Therefore, we have treated Bright Sea Co., Ltd. and The Union Frozen Products, Co., Ltd. as a single entity for purposes of the preliminary results.

In the Initiation Notice, the Department indicated that, in the event that we would limit the respondents selected for individual examination in accordance with section 777A(c)(2) of the Tariff Act of 1930, as amended (the Act), we would select mandatory respondents for individual examination based upon CBP entry data. See Initiation Notice, 75 FR at 17699. In April and May 2010, we received comments on the issue of respondent selection from MRG, Pakfood, the domestic processors,³ and the petitioner.⁴

³ The domestic processors consist of the American Shrimp Processors Association and the Louisiana Shrimp Association.

⁴ The petitioner is the Ad Hoc Shrimp Trade Action Committee.

In April and May 2010, we received statements from 14 companies that indicated that they had no shipments of subject merchandise to the United States during the POR.

In July 2010, after considering the large number of potential exporters or producers involved in this administrative review, and the resources available to the Department, we determined that it was not practicable to examine all exporters/producers of subject merchandise for which a review was requested. See Memorandum to James Maeder, Director, Office 2, AD/CVD Operations, from Elizabeth Eastwood, Senior Analyst, Office 2, AD/CVD Operations, entitled, “2009-2010 Antidumping Duty Administrative Review on Certain Frozen Warmwater Shrimp from Thailand: Selection of Respondents for Individual Review,” dated July 9, 2010 (Respondent Selection Memo). As a result, pursuant to section 777A(c)(2)(B) of the Act, we determined that we could reasonably individually examine only the two producers/exporters accounting for the largest volume of certain frozen warmwater shrimp from Thailand during the POR (i.e., based on CBP entry data, Pakfood and MRG). Accordingly, we issued the antidumping duty questionnaire to these companies on July 9, 2010.

On August 18, 2010, the domestic processors alleged that a particular market situation existed in Thailand during the POR that prevented home market prices of shrimp from being competitively set. Therefore, the domestic processors argued that the Department should not use home market sales as a basis for NV. In August and September 2010, we received rebuttal and surrebuttal comments regarding this issue from the respondents and the domestic processors.

In August 2010, we received responses from MRG and Pakfood to section A (i.e., the section related to general information) of the Department's questionnaire. Also in August 2010, we issued a supplemental section A questionnaire to Pakfood. In September 2010, we received responses from MRG and Pakfood to sections B and C (i.e., the sections covering the comparison market and U.S. sales, respectively) of the Department's questionnaire. In this same month, we also received Pakfood's response to section D (i.e., the section covering cost of production (COP) and constructed value (CV)) of the Department's questionnaire and its response to the Department's supplemental section A questionnaire.

On September 28, 2010, the petitioner requested that the Department automatically initiate a sales-below-cost-investigation of MRG. On October 1, 2010, we issued a letter to the petitioner denying this request because the Department had not made a finding to disregard sales-below-cost for MRG in the most recently completed segment of the proceeding in which it participated as of the date of initiation of the current review.⁵ On October 6, 2010, the petitioner filed a company-specific sales-below-cost allegation for MRG.

⁵ See generally Import Administration Policy Bulletin 05-2, which can be found at http://ia.ita.doc.gov/policy/bull05-2.pdf.

On October 7, 2010, the Department extended the preliminary results in the current review to no later than February 28, 2011. See Certain Frozen Warmwater Shrimp From India and Thailand: Notice of Extension of Time Limits for the Preliminary Results of the 2009-2010 Administrative Reviews, 75 FR 62099, 62100 (Oct. 7, 2010) (2009-2010 Preliminary Extension).⁶ Also in October 2010, we issued supplemental sales questionnaires to each respondent, and we received responses to these questionnaires.

⁶ In this notice, we incorrectly stated that the Department would issue the preliminary results no later than March 1, 2011. See 2009-2010 Prelminary Extension, 75 FR at 62100.

On October 21, 2010, the Department initiated a sales-below-cost investigation for MRG, and on that date we instructed MRG to respond to section D of the Department's questionnaire. See Memorandum to James Maeder, Director, Office 2, AD/CVD Operations, from the Team, entitled, “February 2009-January 2010 Antidumping Duty Administrative Review of Certain Frozen Warmwater Shrimp from Thailand: The Petitioner's Allegation of Sales-Below-Cost of Production for Marine Gold Products Ltd.,” dated October 21, 2010 (MRG Cost Investigation Memo).

On October 29, 2010, the Department found that there was insufficient evidence to determine that a particular market situation, within the meaning of section 773(a)(1)(C)(iii) of the Act, existed in Thailand during the POR that would prevent a proper comparison between respondents' export prices and their home market prices. See Memorandum to James Maeder, Director, Office 2, AD/CVD Operations, from Blaine Wiltse, Trade Analyst, Office 2, AD/CVD Operations, entitled, “2009-2010 Antidumping Duty Administrative Review on Certain Frozen Warmwater Shrimp from Thailand: Allegation of a Particular Market Situation,” dated October 29, 2010.

In November and December 2010, we issued supplemental sales and cost questionnaires to both respondents, and we received responses to these supplemental questionnaires in these months.

In January and February 2011, we verified the sales and cost data reported by Pakfood.

Scope of the Order

The scope of this order includes certain frozen warmwater shrimp and prawns, whether wild-caught (ocean harvested) or farm-raised (produced by aquaculture), head-on or head-off, shell-on or peeled, tail-on or tail-off,⁷ deveined or not deveined, cooked or raw, or otherwise processed in frozen form.

⁷ “Tails” in this context means the tail fan, which includes the telson and the uropods.

The frozen warmwater shrimp and prawn products included in the scope of this order, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Thai white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and ten percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Preliminary No Shipment Determination

In April and May 2010, 14 companies notified the Department that they had no shipments of subject merchandise to the United States during the POR; only 12 of these claims, however, were properly filed and/or contained information sufficient to determine whether shipments were, in fact, made. The Department subsequently confirmed with CBP the no-shipment claim made by these 12 companies. Because the evidence on the record indicates that these companies did not export subject merchandise to the United States during the POR, we preliminarily determine that the following 12 companies had no reviewable transactions during the POR:

(1) American Commercial Transport, Inc.⁸

⁸ This company was listed in the Initiation Notice as American Commercial Transport (Thailand).

(2) Ampai Frozen Food Co., Ltd.

(3) Far East Cold Storage Co., Ltd.

(4) Grobest Frozen Foods Co., Ltd.

(5) Inter-Oceanic Resources Co., Ltd.

(6) Leo Transport Corporation Ltd.⁹

⁹ This company was listed in the Initiation Notice as Leo Transports.

(7) Mahachai Food Processing Co., Ltd.

(8) S. Khonkaen Food Industry Public Co., Ltd.

(9) Siam Marine Frozen Foods Co., Ltd.

(10) Siam Ocean Frozen Foods Co. Ltd.

(11) Thai Union Manufacturing Co., Ltd.

(12) V. Thai Food Product Co., Ltd.¹⁰

¹⁰ This company was listed in the Initiation Notice as V Thai Food Product.

Since the implementation of the 1997 regulations, our practice concerning no-shipment respondents has been to rescind the administrative review if the respondent certifies that it had no shipments and we have confirmed through our examination of CBP data that there were no shipments of subject merchandise during the POR. See Antidumping Duties; Countervailing Duties, 62 FR 27296, 27393 (May 19, 1997). As a result, in such circumstances, we normally instruct CBP to liquidate any entries from the no-shipment company at the deposit rate in effect on the date of entry.

In our May 6, 2003, “automatic assessment” clarification, we explained that, where respondents in an administrative review demonstrate that they had no knowledge of sales through resellers to the United States, we would instruct CBP to liquidate such entries at the all-others rate applicable to the proceeding. See Antidumping and Countervailing Duty Proceedings: Assessment of Antidumping Duties, 68 FR 23954 (May 6, 2003) (Assessment Policy Notice).

Because “as entered” liquidation instructions do not alleviate the concerns which the May 2003 clarification was intended to address, we find it appropriate in this case to instruct CBP to liquidate any existing entries of merchandise produced by the 12 companies listed above and exported by other parties at the all-others rate, should we continue to find that these companies had no shipments of subject merchandise in the POR in our final results. See, e.g., Magnesium Metal From the Russian Federation: Preliminary Results of Antidumping Duty Administrative Review, 75 FR 26922 (May 13, 2010), unchanged in Magnesium Metal From the Russian Federation: Final Results of Antidumping Duty Administrative Review, 75 FR 56989 (Sept. 17, 2010); and Stainless Steel Sheet and Strip in Coils From Taiwan: Final Results of Antidumping Duty Administrative Review, 75 FR 76700, 76701 (Dec. 9, 2010).

In addition, the Department finds that it is more consistent with the May 2003 clarification not to rescind the review in part in these circumstances but, rather, to complete the review with respect to these 12 companies and issue appropriate instructions to CBP based on the final results of the review. See the “Assessment Rates” section of this notice, below.

With respect to the remaining two companies which submitted deficient statements of no shipments during the POR, A. Wattanachai Frozen Products Co., Ltd. (Wattanachai) did not properly certify its statement of no shipments in accordance with 19 CFR 351.303(g)(1), while Calsonic Kansei (Thailand) Co., Ltd.'s (Calsonic) statement of no shipments contained inadequate information. The Department contacted each of these companies on multiple occasions requesting that they correct the deficiencies in their statements of no shipments; however, neither company responded to our requests. Therefore, we preliminarily find that there is insufficient evidence on the record of this review to conclude that these companies made no shipments of subject merchandise to the United States during the POR. Therefore, we are continuing to include both companies in this administrative review.

Comparisons to Normal Value

To determine whether sales of shrimp from Thailand to the United States were made at less than NV, we compared the export price (EP) or constructed export price (CEP) to the NV, as described in the “Constructed Export Price/Export Price” and “Normal Value” sections of this notice.

Pursuant to sections 773(a)(1)(B)(i) and 777A(d)(2) of the Act, for MRG and Pakfood, we compared the EPs or CEPs of individual U.S. transactions, as applicable, to the weighted-average NV of the foreign like product in the appropriate corresponding calendar month where there were sales made in the ordinary course of trade, as discussed in the “Cost of Production Analysis” section below.

Product Comparisons

In accordance with section 771(16)(A) of the Act, we considered all products produced by MRG and Pakfood covered by the description in the “Scope of the Order” section, above, to be foreign like products for purposes of determining appropriate product comparisons to U.S. sales. Pursuant to 19 CFR 351.414(e)(2), we compared U.S. sales of shrimp to sales of shrimp made in the home market within the contemporaneous window period, which extends from three months prior to the month of the first U.S. sale until two months after the month of the last U.S. sale.

Where there were no sales of identical merchandise in the comparison market made in the ordinary course of trade to compare to U.S. sales, according to section 771(16)(B) of the Act, we compared U.S. sales of non-broken shrimp to sales of the non-broken most similar foreign like product made in the ordinary course of trade. In making the product comparisons, we matched foreign like products based on the physical characteristics reported by MRG and Pakfood in the following order: cooked form, head status, count size, organic certification, shell status, vein status, tail status, other shrimp preparation, frozen form, flavoring, container weight, presentation, species, and preservative. Where there were no sales of identical or similar non-broken merchandise, we made product comparisons using CV, as discussed in the “Calculation of Normal Value Based on Constructed Value” section below. See section 773(a)(4) of the Act.

With respect to sales comparisons involving broken shrimp, we compared Pakfood's sales of broken shrimp in the United States to sales of comparable quality shrimp in the home market. Where there were no sales of identical broken shrimp in the home market made in the ordinary course of trade to compare to U.S. sales, we compared U.S. sales of broken shrimp to sales of the most similar broken shrimp made in the ordinary course of trade. Where there were no sales of identical or similar broken shrimp, we made product comparisons using CV. MRG did not make sales of broken shrimp to the United States during the POR.

Because we disallowed Pakfood's differentiation of trays under the “presentation” product characteristic in the final results of the 2008-2009 administrative review, we revised Pakfood's relevant presentation codes and product control numbers in our margin calculations, including the calculation of the COP, to reflect this change. See Certain Frozen Warmwater Shrimp from Thailand: Final Results and Partial Rescission of Antidumping Duty Administrative Review, 75 FR 54847 (Sept. 9, 2010), and accompanying Issues and Decision Memorandum at Comment 12.

Constructed Export Price/Export Price

For certain U.S. sales made by MRG and Pakfood, we calculated CEP in accordance with section 772(b) of the Act because the subject merchandise was first sold to unaffiliated purchasers after its importation into the United States.

For the remaining U.S. sales made by MRG and Pakfood, we used EP methodology, in accordance with section 772(a) of the Act, because the subject merchandise was sold by the producer/exporter outside of the United States directly to the first unaffiliated purchaser in the United States prior to importation and CEP methodology was not otherwise warranted based on the facts of record.

MRG reported that, during the POR, it sold subject merchandise to the United States that it purchased from an unaffiliated producer. In such cases, the Department normally would base NV for those sales on MRG's sales in the comparison market of foreign like product produced by the same unaffiliated producer, in accordance with sections 771(16) and 773(a)(1)(B)(I) of the Act. In this case, however, MRG made no such sales in the home market. While the Department could have requested that the unaffiliated producer provide cost data for the U.S. sales, and based NV on the CV of the merchandise, we find that the percentage of MRG's U.S. sales accounted for by this merchandise is not significant. Therefore, we have not requested such information and, instead, as facts otherwise available, pursuant to section 776(a)(1) of the Act, we have used MRG's costs to produce merchandise with characteristics identical or similar to the characteristics of the merchandise produced by the unaffiliated producer as the basis for CV. See Stainless Steel Sheet and Strip in Coils from Taiwan: Preliminary Results and Preliminary Rescission in Part of Antidumping Duty Administrative Review, 73 FR 45393, 45398 (Aug. 5, 2008), unchanged in Stainless Steel Sheet and Strip in Coils From Taiwan: Final Results and Rescission in Part of Antidumping Duty Administrative Review, 73 FR 74704 (Dec. 9, 2008). For further discussion, see the Memorandum to the File, from Blaine Wiltse, Analyst, Office 2, AD/CVD Operations, entitled, “Calculation Adjustments for Marine Gold Products Limited, for the Preliminary Results in the 2009-2010 Administrative Review of Certain Frozen Warmwater Shrimp from Thailand,” dated February 28, 2011 (MRG Prelim Calc Memo).

We also revised the date of sale for certain of MRG's U.S. sales to report the date of the last invoice issued, which set the final material terms of sale, as the date of sale. For further discussion, see the MRG Prelim Calc Memo.

We revised the data reported by Pakfood to take into account minor corrections found at verification. See Memorandum to the File, from Holly Phelps, Analyst, Office 2, AD/CVD Operations, entitled, “Calculation Adjustments for Pakfood Public Company Limited and its affiliated subsidiaries, Okeanos Co., Ltd., Okeanos Food Co., Ltd., Takzin Samut Co., Ltd., Chaophraya Coldstorage Co., Ltd., and Asia Pacific (Thailand) Company Ltd. (collectively, “Pakfood”), for the Preliminary Results in the 2009-2010 Administrative Review of Certain Frozen Warmwater Shrimp from Thailand,” dated February 28, 2011 (Pakfood Prelim Calc Memo).

A. MRG

We based EP on packed prices to the first unaffiliated purchaser in the United States. Where appropriate, we made adjustments to the starting price for billing adjustments and rebates in accordance with 19 CFR 351.401(c). We also made deductions from the starting price for foreign inland freight expenses, foreign warehousing expenses, foreign brokerage and handling expenses, international freight expenses, marine insurance expenses, U.S. brokerage and handling expenses, U.S. customs duties (including harbor maintenance fees and merchandise processing fees), U.S. inland freight expenses, and U.S. warehousing expenses, where appropriate, in accordance with section 772(c)(2)(A) of the Act.

We based CEP on C&F (cost and freight) or DDP (delivered, duty paid) prices to unaffiliated purchasers in the United States. We made deductions for movement expenses, in accordance with section 772(c)(2)(A) of the Act; these included, where appropriate, foreign warehousing expenses, foreign inland freight expenses, foreign brokerage and handling expenses, international freight expenses, marine insurance expenses, U.S. brokerage and handling expenses, and U.S. customs duties (including harbor maintenance fees and merchandise processing fees). In accordance with section 772(d)(1) of the Act and 19 CFR 351.402(b), we deducted those selling expenses associated with economic activities occurring in the United States, including direct selling expenses (e.g., bank fees and imputed credit expenses) and indirect selling expenses (including inventory carrying costs).

Pursuant to section 772(d)(3) of the Act, we further reduced the starting price by an amount for profit to arrive at CEP. In accordance with section 772(f) of the Act, we calculated the CEP profit rate using the expenses incurred by MRG on its sales of the subject merchandise in the United States and the profit associated with those sales.

B. Pakfood

We based EP on C&F and DDP packed prices to the first unaffiliated purchaser in the United States. Where appropriate, we made deductions from the starting price for discounts in accordance with 19 CFR 351.401(c). We also made deductions from the starting price for foreign warehousing expenses, foreign inland freight expenses, foreign brokerage and handling expenses, ocean freight expenses, marine insurance expenses, U.S. brokerage and handling expenses, FDA inspection expenses, and U.S. customs duties (including harbor maintenance fees and merchandise processing fees), where appropriate, in accordance with section 772(c)(2)(A) of the Act. We recalculated foreign warehousing expenses to remove the amount of certain “short” payments received by Pakfood on its CEP sales. For further discussion, see the Pakfood Prelim Calc Memo.

We based CEP on DDP prices to unaffiliated purchasers in the United States. We made deductions for billing adjustments, where appropriate, based on the value of “short” payments not collected by Pakfood during the POR, which Pakfood reported as part of warehousing expenses. For further discussion, see the Pakfood Prelim Calc Memo.

We also made deductions for movement expenses, in accordance with section 772(c)(2)(A) of the Act; these included, where appropriate, foreign warehousing expenses, foreign inland freight expenses, foreign brokerage and handling expenses, ocean freight expenses, marine insurance expenses, U.S. brokerage and handling expenses, FDA inspection expenses, and U.S. customs duties (including harbor maintenance fees and merchandise processing fees). We recalculated foreign warehousing expenses in the same manner noted above.

In accordance with section 772(d)(1) of the Act and 19 CFR 351.402(b), we deducted direct selling expenses (i.e., imputed credit expenses), and indirect selling expenses (including inventory carrying costs). Pursuant to section 772(d)(3) of the Act, we further reduced the starting price by an amount for profit to arrive at CEP. In accordance with section 772(f) of the Act, we calculated the CEP profit rate using the expenses incurred by Pakfood on its sales of the subject merchandise in the United States and the profit associated with those sales.

Normal Value

A. Home Market Viability

In order to determine whether there was a sufficient volume of sales in the home market to serve as a viable basis for calculating NV, we compared the volume of home market sales of the foreign like product to the volume of U.S. sales of the subject merchandise. See section 773(a)(1)(C) of the Act. Based on this comparison, we determined that MRG and Pakfood had viable home markets during the POR. Consequently, we based NV on home market sales for MRG and Pakfood.

B. Level of Trade

Section 773(a)(1)(B)(i) of the Act states that, to the extent practicable, the Department will calculate NV based on sales at the same level of trade (LOT) as the EP or CEP. Sales are made at different LOTs if they are made at different marketing stages (or their equivalent). See 19 CFR 351.412(c)(2). Substantial differences in selling activities are a necessary, but not sufficient, condition for determining that there is a difference in the stages of marketing. Id; see also Certain Orange Juice From Brazil: Final Results of Antidumping Duty Administrative Review and Notice of Intent Not To Revoke Antidumping Duty Order in Part, 75 FR 50999, 51001 (Aug. 18, 2010), and accompanying Issues and Decision Memorandum at Comment 7 (OJ from Brazil). In order to determine whether the comparison market sales were at different stages in the marketing process than the U.S. sales, we reviewed the distribution system in each market (i.e., the chain of distribution), including selling functions, class of customer (customer category), and the level of selling expenses for each type of sale.

Pursuant to section 773(a)(1)(B)(i) of the Act, in identifying LOTs for EP and comparison market sales (i.e., NV based on either home market or third country prices),¹¹ we consider the starting prices before any adjustments. For CEP sales, we consider only the selling activities reflected in the price after the deduction of expenses and profit under section 772(d) of the Act. See Micron Tech., Inc. v. United States, 243 F.3d 1301, 1314-16 (Fed. Cir. 2001).

¹¹ Where NV is based on CV, we determine the NV LOT based on the LOT of the sales from which we derive selling expenses, general and administrative (G&A) expenses, and profit for CV, where possible.

When the Department is unable to match U.S. sales of the foreign like product in the comparison market at the same LOT as the EP or CEP, the Department may compare the U.S. sale to sales at a different LOT in the comparison market. In comparing EP or CEP sales at a different LOT in the comparison market, where available data make it possible, we make an LOT adjustment under section 773(a)(7)(A) of the Act. Finally, for CEP sales only, if the NV LOT is at a more advanced stage of distribution than the LOT of the CEP and there is no basis for determining whether the difference in LOTs between NV and CEP affects price comparability (i.e., no LOT adjustment was possible), the Department shall grant a CEP offset, as provided in section 773(a)(7)(B) of the Act. See, e.g., OJ from Brazil, 75 FR at 51001.

In this administrative review, we obtained information from both respondents regarding the marketing stages involved in making the reported home market and U.S. sales, including a description of the selling activities performed by each respondent for each channel of distribution. Company-specific LOT findings are summarized below.

1. MRG

MRG reported that it made sales through one channel of distribution in the United States (i.e., EP sales made directly to unaffiliated customers). However, during the POR, certain of MRG's EP sales were cancelled and then resold after importation into the United States on a CEP basis. These CEP sales represent a second channel of distribution for MRG's U.S. sales during the POR.

MRG reported performing the following selling functions for its EP U.S. sales: Sales forecasting/market research; sales promotion/trade shows and advertising; direct sales personnel; paying commissions; order processing/sales documentation; packing/packaging; inventory maintenance; freight/delivery arrangements; providing cash discounts; providing financing; and warranty service. These selling activities can be generally grouped into four selling function categories for analysis: (1) Sales and marketing; (2) freight and delivery; (3) inventory maintenance and warehousing; and, (4) warranty and technical support. Accordingly, based on the selling function categories, we find that MRG performed sales and marketing, freight and delivery services, inventory maintenance and warehousing, and warranty and technical support for all EP U.S. sales. MRG reported performing the same selling functions for its CEP U.S. sales as its EP U.S. sales. Therefore, because MRG did not perform any different selling functions to make its CEP U.S. sales, we find that such sales do not constitute a different LOT in the U.S. market. Accordingly, we preliminarily determine that there is one LOT in the U.S. market.

With respect to the home market, MRG reported that it made sales through two channels of distribution (i.e., sales to one customer which purchases shrimp for processing into non-subject merchandise; and sales to all other customers). We examined the selling activities performed for these channels, and found that MRG performed the following selling functions for both channels: Order processing/sales documentation, inventory maintenance, limited freight/delivery services, financing services, warranty services, and packing/packaging. These selling activities can be generally grouped into four selling function categories for analysis: (1) Sales and marketing; (2) freight and delivery services; (3) inventory maintenance and warehousing; and (4) warranty and technical support. Accordingly, we find that MRG performed sales and marketing, freight and delivery services, inventory maintenance and warehousing, and warranty and technical support for all customers in the home market. In addition, MRG reported that it performed sales forecasting/market research and employed direct sales personnel at a low-to-medium level of intensity for one home market channel, and did not perform these activities for the other home market channel. However, after analyzing the selling functions performed for both sales channels in the home market, we find that the distinctions in selling functions are not significant. Therefore, based on the totality of the facts and circumstances, we preliminarily determine that there is one LOT in the home market for MRG.

Finally, we compared the U.S. LOT to the home market LOT and found that the selling functions performed for U.S. and home market customers are essentially the same, with the exception of commission payments made for certain U.S. sales. We note that this difference is not a sufficient basis to determine that the U.S. LOT is different from the home market LOT. Moreover, although there are some differences in the level of intensity at which some of the selling functions were performed in the two markets, we find that these differences are not significant. Therefore, based on the totality of the facts and circumstances, we preliminarily determine that sales to the U.S. and home markets during the POR were made at the same LOT, and as a result, no LOT adjustment or CEP offset is warranted.

2. Pakfood

Pakfood reported that it made EP and CEP sales through a single channel of distribution (i.e., direct sales to distributors), and performed the following selling functions for sales to U.S. customers: Sales forecasting, market research, sales promotion, advertising, order processing, procurement/sourcing services, direct sales personnel, provision of cash discounts, payment of commissions, freight and delivery services, warehousing services, and packing. These selling activities can be generally grouped into four selling function categories for analysis: (1) Sales and marketing; (2) freight and delivery services; (3) inventory maintenance and warehousing; and (4) warranty and technical support. Accordingly, based on the selling function categories, we find that Pakfood performed sales and marketing, freight and delivery services, and inventory maintenance and warehousing for U.S. sales. Because all sales in the United States are made through a single distribution channel (i.e., direct sales to unaffiliated customers) and the selling activities to Pakfood's customers did not vary within this channel, we preliminarily determine that there is one LOT in the U.S. market.

With respect to the home market, Pakfood reported that it made sales to processors, distributors, retailers, and end-users. Pakfood stated that its home market sales were made through a single channel of distribution, direct from factory to customer, and that it performed the following selling functions for sales to home market customers: Sales forecasting, market research, sales promotion, advertising, procurement/sourcing services, order processing, direct sales personnel, provision of cash discounts, freight and delivery services, warehousing, and packing. These selling activities can be generally grouped into four selling function categories for analysis: (1) Sales and marketing; (2) freight and delivery services; (3) inventory maintenance and warehousing; and (4) warranty and technical support. Accordingly, we find that Pakfood performed sales and marketing, freight and delivery services, and inventory maintenance and warehousing at the same relative level of intensity for all customers in the home market. Because all sales in the home market sales are made through a single distribution channel and the selling activities to Pakfood's customers did not vary within this channel, we preliminarily determine that there is one LOT in the home market for Pakfood.

Finally, we compared the U.S. LOT to the home market LOT and found that the selling functions performed for U.S. and home market customers are virtually identical, with the exception of commission payments made for certain U.S. sales. We note that this difference is not a sufficient basis to determine that the U.S. LOT is different from the home market LOT. Moreover, although there are some differences in the level of intensity at which some of the selling functions were performed in the two markets, we find that these differences are not significant. Therefore, based on the totality of the facts and circumstances, we preliminarily determine that sales to the U.S. and home markets during the POR were made at the same LOT, and as a result, no LOT adjustment or CEP offset is warranted.

C. Cost of Production Analysis

Based on our analysis of the petitioner's allegation, we found that there were reasonable grounds to believe or suspect that MRG's sales of shrimp in the home market were made at prices below its COP. Accordingly, pursuant to section 773(b) of the Act, we initiated a sales-below-cost investigation to determine whether MRG's sales were made at prices below its COP. See MRG Cost Investigation Memo.

Moreover, we found that Pakfood made sales in the same comparison market below the COP in the most recently completed segment of this proceeding as of the date of initiation of this review and such sales were disregarded. See Certain Frozen Warmwater Shrimp From Thailand: Final Results and Partial Rescission of Antidumping Duty Administrative Review, 74 FR 47551, 47552 (Sept. 16, 2009). Thus, in accordance with section 773(b)(2)(A)(ii) of the Act, we find that there are reasonable grounds to believe or suspect that Pakfood made sales in the home market at prices below the cost of producing the merchandise in the current POR.

1. Calculation of Cost of Production

In accordance with section 773(b)(3) of the Act, we calculated the respondents' COPs based on the sum of their costs of materials and conversion for the foreign like product, plus amounts for G&A expenses and interest expenses (see “Test of Comparison Market Sales Prices” section, below, for treatment of third country selling expenses).

The Department relied on the COP data submitted by each respondent in its most recently submitted cost database for the COP calculation, for the following instance.

We have revised Pakfood's G&A expenses to eliminate certain double counting of direct selling expenses. For further discussion of these adjustments, see the memorandum from Ernest Gziryan, Accountant, to Neal M. Halper, Director, Office of Accounting, entitled, “Cost of Production and Constructed Value Calculation Adjustments for the Preliminary Results—Pakfood Public Company Limited,” dated February 28, 2011.

2. Test of Comparison Market Sales Prices

On a product-specific basis, pursuant to section 773(a)(1)(B)(i) of the Act, we compared the adjusted weighted-average COP to the home market sales prices of the foreign like product, in order to determine whether the sale prices were below the COP. For purposes of this comparison, we used COP exclusive of selling and packing expenses. The prices (inclusive of billing adjustments, where appropriate) were exclusive of any applicable movement charges, discounts, direct and indirect selling expenses and packing expenses.

3. Results of the COP Test

In determining whether to disregard home market sales made at prices below the COP, we examined, in accordance with sections 773(b)(1)(A) and (B) of the Act whether: (1) Within an extended period of time, such sales were made in substantial quantities; and (2) such sales were made at prices which permitted the recovery of all costs within a reasonable period of time in the normal course of trade. In accordance with sections 773(b)(2)(B) and (C) of the Act, where less than 20 percent of the respondent's home market sales of a given product are at prices less than the COP, we do not disregard any below-cost sales of that product because we determine that in such instances the below-cost sales were not made within an extended period of time and in “substantial quantities.” Where 20 percent or more of a respondent's sales of a given product are at prices less than the COP, we disregard the below-cost sales when: (1) They were made within an extended period of time in “substantial quantities,” in accordance with sections 773(b)(2)(B) and (C) of the Act; and (2) based on our comparison of prices to the weighted-average COPs for the POR, they were at prices which would not permit the recovery of all costs within a reasonable period of time, in accordance with section 773(b)(2)(D) of the Act.

We found that, for certain products, more than 20 percent of MRG's and Pakfood's home market sales were at prices less than the COP and, in addition, such sales did not provide for the recovery of costs within a reasonable period of time. We therefore excluded these sales and used the remaining sales as the basis for determining NV, in accordance with section 773(b)(1) of the Act.

For those U.S. sales of subject merchandise for which there were no home market sales in the ordinary course of trade, we compared CEPs or EPs, as appropriate, to CV in accordance with section 773(a)(4) of the Act. See “Calculation of Normal Value Based on Constructed Value” section below.

D. Calculation of Normal Value Based on Comparison Market Prices

1. MRG

For MRG, we calculated NV based on delivered prices to unaffiliated customers in the home market. We made adjustments to the starting price, where appropriate, for billing adjustments, in accordance with 19 CFR 351.401(c). We also made deductions for foreign inland freight expenses and foreign warehousing expenses, under section 773(a)(6)(B) of the Act.

For comparisons to EP sales, we made adjustments under section 773(a)(6)(C)(iii) of the Act and 19 CFR 351.410 for differences in circumstances of sale for direct selling expenses (including bank fees and imputed credit expenses) and commissions, where appropriate. Because commissions were paid only on sales in the U.S. market, we also made a downward adjustment to NV for the lesser of: (1) The amount of commissions paid in the U.S. market; or (2) the amount of indirect selling expenses incurred in the home market. See 19 CFR 351.410(e). We recalculated MRG's foreign indirect selling expense ratio to remove sales of scrap from the denominator of the calculation. See MRG Prelim Calc Memo.

For comparisons to CEP sales, in accordance with section 773(a)(6)(C)(iii) of the Act and 19 CFR 351.410, we deducted from NV direct selling expenses (i.e., imputed credit expenses and bank fees) and commissions. Because commissions were paid only in the U.S. market, we made a downward adjustment to NV for the lesser of: (1) The amount of commission paid in the U.S. market; or (2) the amount of indirect selling expenses (including inventory carrying costs) incurred in the home market. See 19 CFR 351.410(e). As noted above, we recalculated MRG's foreign indirect selling expense ratio.

Finally, for all price-to-price comparisons, we made adjustments for differences in costs attributable to differences in the physical characteristics of the merchandise in accordance with section 773(a)(6)(C)(ii) of the Act and 19 CFR 351.411. We also deducted home market packing costs and added U.S. packing costs, in accordance with sections 773(a)(6)(A) and (B)(i) of the Act.

2. Pakfood

We based NV for Pakfood on ex-factory or delivered prices to unaffiliated customers in the home market, or prices to affiliated customers in the home market that were determined to be at arm's length. Where appropriate, we made adjustments to the starting price for billing adjustments. We also made deductions, where appropriate, from the starting price for inland freight and warehousing expenses, under section 773(a)(6)(B)(ii) of the Act.

For comparisons to EP sales, we made adjustments under section 773(a)(6)(C)(iii) of the Act and 19 CFR 351.410 for differences in circumstances of sale for direct selling expenses (including imputed credit expenses, bank fees, and express mail charges) and commissions, where appropriate. Because commissions were paid only in the U.S. market, we made a downward adjustment to NV for the lesser of: (1) The amount of commission paid in the U.S. market; or (2) the amount of indirect selling expenses (including inventory carrying costs) incurred in the home market. See 19 CFR 351.410(e).

For comparisons to CEP sales, in accordance with section 773(a)(6)(C)(iii) of the Act and 19 CFR 351.410, we deducted from NV direct selling expenses (i.e., imputed credit expenses, bank fees, and express mail charges).

Finally, for all price-to-price comparisons, we made adjustments for differences in costs attributable to differences in the physical characteristics of the merchandise, in accordance with section 773(a)(6)(C)(ii) of the Act and 19 CFR 351.411. We also deducted home market packing costs and added U.S. packing costs, in accordance with sections 773(a)(6)(A) and (B)(i) of the Act.

E. Calculation of Normal Value Based on Constructed Value

Section 773(a)(4) of the Act provides that where NV cannot be based on comparison market sales, NV may be based on CV. Accordingly, for MRG's shrimp products for which we could not determine the NV based on home market sales because, as noted in the “Results of the COP Test” section above, all sales of the comparable products failed the COP test, we based NV on CV.

Sections 773(e)(1) and (2)(A) of the Act provides that CV shall be based on the sum of the cost of materials and fabrication for the imported merchandise, plus amounts for selling, general, and administrative (SG&A) expenses, profit, and U.S. packing costs. For MRG, we calculated the cost of materials and fabrication based on the methodology described in the “Cost of Production Analysis” section, above. We based SG&A and profit for MRG on the actual amounts incurred and realized by it in connection with the production and sale of the foreign like product in the ordinary course of trade for consumption in the home market, in accordance with section 773(e)(2)(A) of the Act.

For MRG, we made adjustments to CV for differences in circumstances of sale, in accordance with section 773(a)(6)(C)(iii) and (a)(8) of the Act and 19 CFR 351.410. For comparisons to EP, we made circumstance-of-sale adjustments by deducting direct selling expenses incurred on MRG's comparison market sales from, and adding U.S. direct selling expenses to, CV. See 19 CFR 351.410(c). For comparisons to CEP, we deducted MRG's comparison market direct selling expenses from CV. Id. We also made adjustments, when applicable, for MRG's home market indirect selling expenses to offset U.S. commissions in EP comparisons. See 19 CFR 351.410(e).

Currency Conversion

We made currency conversions into U.S. dollars for all spot transactions by MRG and Pakfood, in accordance with section 773A of the Act and 19 CFR 351.415, based on the exchange rates in effect on the dates of the U.S. sales as certified by the Federal Reserve Bank. In addition, both MRG and Pakfood reported that they purchased forward exchange contracts which were used to convert their sales prices into home market currency. Under 19 CFR 351.415(b), if a currency transaction on forward markets is directly linked to an export sale under consideration, the Department is directed to use the exchange rate specified with respect to such currency in the forward sale agreement to convert the foreign currency. See, e.g., Notice of Final Determination of Sales at Less Than Fair Value and Negative Final Determination of Critical Circumstances: Certain Frozen and Canned Warmwater Shrimp from Thailand, 69 FR 76918 (Dec. 23, 2004), and accompanying Issues and Decision Memorandum at Comment 6; see also Certain Frozen Warmwater Shrimp from India: Preliminary Results and Preliminary Partial Rescission of Antidumping Duty Administrative Review, 73 FR 12103, 12113 (Mar. 6, 2008), unchanged in Certain Frozen Warmwater Shrimp form India: Final Results and Partial Rescission of Antidumping Duty Administrative Review, 73 FR 40492 (July 15, 2008). Therefore, for MRG and Pakfood we used the reported forward exchange rates for currency conversions where applicable.

Preliminary Results of the Review

We preliminarily determine that weighted-average dumping margins exist for the respondents for the period February 1, 2009, through January 31, 2010, as follows:

Manufacturer/exporter | Percent margin
Marine Gold Products Co., Ltd | 0.68
Pakfood Public Company Limited/Asia Pacific (Thailand) Co., Chaophraya Cold Storage Co., Ltd./Okeanos Co. Ltd./Okeanos Food Co. Ltd./Takzin Samut Co., Ltd | 0.72

Review-Specific Average Rate Applicable to the Following Companies: ¹²

¹² This rate is based on the average of the margins calculated for those companies selected for individual review, weighted by each company's publicly-ranged quantity of reported U.S. transactions. Because we cannot apply our normal methodology of calculating a weighted-average margin due to requests to protect business-proprietary information, we find this rate to be the best proxy of the actual weighted-average margin determined for the mandatory respondents. See Ball Bearings and Parts Thereof From France, et al.: Final Results of Antidumping Duty Administrative Reviews, Final Results of Changed-Circumstances Review, and Revocation of an Order in Part, 75 FR 53661, 53663 (Sept. 1, 2010) (Bearings from France).

Manufacturer/exporter | Percent margin
A. Wattanachai Frozen Products Co., Ltd | 0.70
A.S. Intermarine Foods Co., Ltd | 0.70
ACU Transport Co., Ltd | 0.70
American Commercial Transport (Thailand) | *
Ampai Frozen Food Co., Ltd | *
Apex Maritime (Thailand) Co., Ltd | 0.70
Apex Maritime Thailand | 0.70
Asian Seafoods Coldstorage Public Co., Ltd/Asian Seafoods Coldstorage (Suratthani) Co./STC Foodpak Ltd | 0.70
Assoc. Commercial Systems | 0.70
B.S.A. Food Products Co., Ltd | 0.70
Bangkok Dehydrated Marine Product Co., Ltd | 0.70
Best Fruits | 0.70
C.P. Merchandising Co., Ltd | 0.70
C Y Frozen Food Co., Ltd | 0.70
Calsonic Kansei (Thailand) Co., Ltd | 0.70
Century Industries Co., Ltd | 0.70
Chaivaree Marine Products Co., Ltd | 0.70
Chaiwarut Co., Ltd | 0.70
Charoen Pokphand Foods Public Co., Ltd | 0.70
Chue Eie Mong Eak | 0.70
Conair Intertraffic Co., Ltd | 0.70
Core Seafood Processing Co., Ltd | 0.70
Crystal Frozen Foods Co., Ltd and/or Crystal Seafood | 0.70
Daedong (Thailand) Co. Ltd | 0.70
Daiei Taigen (Thailand) Co., Ltd | 0.70
Daiho (Thailand) Co., Ltd | 0.70
Dextrans Worldwide (Thailand) Ltd | 0.70
Dragon International Furniture Co., Ltd | 0.70
Earth Food Manufacturing Co., Ltd | 0.70
Enburg Food Thai Co., Ltd | 0.70
Extra Maritime Co., Ltd | 0.70
F.A.I.T. Corporation Limited | 0.70
Far East Cold Storage Co., Ltd | *
Findus (Thailand) Ltd | 0.70
Fortune Frozen Foods (Thailand) Co., Ltd | 0.70
Frozen Marine Products Co., Ltd | 0.70
Fujitsu General (Thailand) Co., Ltd | 0.70
Gallant Ocean (Thailand) Co., Ltd/Gallant Seafoods Corporation | 0.70
Golden Sea Frozen Foods Co., Ltd | 0.70
Good Fortune Cold Storage Co., Ltd | 0.70
Good Luck Product Co., Ltd | 0.70
Great Food (Dehydration) Co., Ltd | 0.70
Grobest Frozen Foods Co., Ltd | *
Gulf Coast Crab Intl. | 0.70
H.A.M. International Co., Ltd | 0.70
Heng Seafood Limited Partnership | 0.70
Herba Bangkok S.L. | 0.70
Heritrade Co., Ltd | 0.70
HIC (Thailand) Co., Ltd | 0.70
I.T. Foods Industries Co., Ltd | 0.70
Inter-Furnitech Co., Ltd | 0.70
Inter-Oceanic Resources Co., Ltd | *
Inter-Pacific Marine Products Co., Ltd | 0.70
Inter-Taste Foods Co., Ltd | 0.70
K Fresh | 0.70
K. D. Trading Co., Ltd | 0.70
KF Foods | 0.70
K.L. Cold Storage Co., Ltd | 0.70
K & U Enterprise Co., Ltd | 0.70
Kiang Huat Sea Gull Trading Frozen Food Public Co., Ltd | 0.70
Kingfisher Holdings Ltd | 0.70
Kibun Trdg | 0.70
Klang Co., Ltd | 0.70
Kitchens of the Ocean (Thailand) Ltd | 0.70
Kongphop Frozen Foods Co., Ltd | 0.70
Kosamut Frozen Foods Co., Ltd | 0.70
Lee Heng Seafood Co., Ltd | 0.70
Leo Transports | *
Maersk Line | 0.70
Magnate & Syndicate Co., Ltd | 0.70
Mahachai Food Processing Co., Ltd | *
May Ao Co., Ltd/May Ao Foods Co., Ltd | 0.70
Meyer Industries Ltd | 0.70
Namprik Maesri Ltd Part. | 0.70
Narong Seafood Co., Ltd | 0.70
National Starch and Chemical Thailand Ltd | 0.70
Noble Marketing Co., Ltd | 0.70
NR Instant Produce Co., Ltd | 0.70
Oki Data Manufacturing (Thailand) Co., Ltd | 0.70
Ongkorn Cold Storage Co., Ltd/Thai-Ger Marine Co., Ltd | 0.70
Orion Electric Co., Ltd | 0.70
Pacific Queen Co., Ltd | 0.70
Penta Impex Co., Ltd | 0.70
Pinwood Nineteen Ninety Nine | 0.70
Pioneer Manufacturing (Thailand) Co., Ltd | 0.70
Piti Seafoods Co., Ltd | 0.70
Premier Frozen Products Co., Ltd | 0.70
Preserved Food Specialty Co., Ltd | 0.70
Protainer International Co., Ltd | 0.70
Queen Marine Food Co., Ltd | 0.70
Rayong Coldstorage (1987) Co., Ltd | 0.70
S&D Marine Products Co., Ltd | 0.70
S&P Aquarium | 0.70
S&P Syndicate Public Company Ltd | 0.70
S. Chaivaree Cold Storage Co., Ltd | 0.70
S. Khonkaen Food Industry Public Co., Ltd and/or | *
S. Khonkaen Food Ind Public
SMP Foods Products Co., Ltd | 0.70
Samui Foods Company Limited | 0.70
Sea Bonanza Food Co., Ltd | 0.70
Seafoods Enterprise Co., Ltd | 0.70
Seafresh Fisheries/Seafresh Industry Public Co., Ltd | 0.70
Siam Food Supply Co., Ltd | 0.70
Siam Intersea Co., Ltd | 0.70
Siam Marine Products Co. Ltd | 0.70
Siam Marine Frozen Foods Co., Ltd | *
Siam Ocean Frozen Foods Co. Ltd | *
Siam Union Frozen Foods | 0.70
Siamchai International Food Co., Ltd | 0.70
Smile Heart Foods Co. Ltd | 0.70
Southport Seafood Company Limited | 0.70
Suntechthai Intertrading Co., Ltd | 0.70
Surapon Nichirei Foods Co., Ltd | 0.70
Surapon Seafoods Public Co., Ltd/Surapon Foods Public Co., Ltd/0.70
Surat Seafoods Co., Ltd
Suratthani Marine Products Co., Ltd | 0.70
Suree Interfoods Co., Ltd | 0.70
T.H.I. Group (Bangkok) Co., Ltd | 0.70
T.P. Food Canning Ltd, Part. | 0.70
T.S.F. Seafood Co., Ltd | 0.70
Tanaya International Co., Ltd | 0.70
Tanaya Intl. | 0.70
Teppitak Seafood Co., Ltd | 0.70
Tey Seng Cold Storage Co., Ltd | 0.70
Tep Kinsho Foods Co., Ltd | 0.70
Thai Agri Foods Public Co., Ltd | 0.70
Thai Frozen Foods Co., Ltd | 0.70
Thai Lee Agriculture Co., Ltd | 0.70
Thai Mahachai Seafood Products Co., Ltd | 0.70
Thai Ocean Venture Co., Ltd | 0.70
Thai Onono Public Co., Ltd | 0.70
Thai Patana Frozen | 0.70
Thai Prawn Culture Center Co., Ltd | 0.70
Thai Royal Frozen Food Co. Ltd | 0.70
Thai Spring Fish Co., Ltd | 0.70
Thai Union Frozen Products Public Co., Ltd/0.70
Thai Union Seafood Co., Ltd
Thai Union Manufacturing Co., Ltd and/or Thai Union Mfg | *
Thai World Imp & Exp Co. | 0.70
Thai Yoo Ltd, Part. | 0.70
Thaveevong Industry Co., Ltd | 0.70
The Siam Union Frozen Foods Co., Ltd | 0.70
The Union Frozen Products Co., Ltd/Bright Sea Co., Ltd | 0.70
Trang Seafood Products Public Co., Ltd | 0.70
Transamut Food Co., Ltd | 0.70
Tung Lieng Trdg | 0.70
United Cold Storage Co., Ltd | 0.70
V Thai Food Product | *
Wann Fisheries Co., Ltd | 0.70
Xian-Ning Seafood Co., Ltd | 0.70
Yeenin Frozen Foods Co., Ltd | 0.70
YHS Singapore Pte | 0.70
ZAFCO TRDG | 0.70
* No shipments or sales subject to this review.

Disclosure and Public Hearing

The Department will disclose to parties the calculations performed in connection with these preliminary results within five days of the date of publication of this notice. See 19 CFR 351.224(b). Pursuant to 19 CFR 351.309(c), interested parties may submit cases briefs not later than the later of 30 days after the date of publication of this notice or one week after the issuance of the cost verification report for Pakfood. Rebuttal briefs, limited to issues raised in the case briefs, may be filed not later than five days after the date for filing case briefs. See 19 CFR 351.309(d). Parties who submit case briefs or rebuttal briefs in this proceeding are encouraged to submit with each argument: (1) A statement of the issue; (2) a brief summary of the argument; and (3) a table of authorities. See 19 CFR 351.309(c)(2) and (d)(2).

Pursuant to 19 CFR 351.310(c), interested parties who wish to request a hearing, or to participate if one is requested, must submit a written request to the Assistant Secretary for Import Administration, Room 1870, within 30 days of the date of publication of this notice. Requests should contain: (1) The party's name, address and telephone number; (2) the number of participants; and (3) a list of issues to be discussed. Id. Issues raised in the hearing will be limited to those raised in the respective case briefs. Id. The Department will issue the final results of this administrative review, including the results of its analysis of the issues raised in any written briefs, not later than 120 days after the date of publication of this notice, pursuant to section 751(a)(3)(A) of the Act.

Assessment Rates

Upon completion of the administrative review, the Department shall determine, and CBP shall assess, antidumping duties on all appropriate entries, in accordance with 19 CFR 351.212(b)(1). The Department will issue appropriate appraisement instructions for the companies subject to this review directly to CBP 15 days after the date of publication of the final results of this review.

MRG and Pakfood reported the entered value for certain of their U.S. sales. We will calculate importer-specific ad valorem duty assessment rates based on the ratio of the total amount of antidumping duties calculated for the examined sales to the total entered value of these sales. See 19 CFR 351.212(b)(1).

For the remainder of MRG's and Pakfood's U.S. sales, we note that these companies did not report the entered value for the U.S. sales in question. We will calculate importer-specific per-unit duty assessment rates by aggregating the total amount of antidumping duties calculated for the examined sales and dividing this amount by the total quantity of those sales. With respect to MRG's and Pakfood's U.S. sales of shrimp with sauce for which no entered value was reported, we will include the total quantity of the merchandise with sauce in the denominator of the calculation of the importer-specific rate because CBP will apply the per-unit duty rate to the total quantity of merchandise entered, including the sauce weight. To determine whether the duty assessment rates are de minimis, in accordance with the requirement set forth in 19 CFR 351.106(c)(2), we will calculate importer-specific ad valorem ratios based on the estimated entered value.

For the companies which were not selected for individual review, we will calculate an assessment rate based on the average of the margins calculated for those companies selected for individual review, weighted by each company's publicly-ranged quantity of reported U.S. transactions. In situations where we cannot apply our normal methodology of calculating a weighted-average margin due to requests to protect business-proprietary information but where use of a simple average does not yield the best proxy of the weighted-average margin relative to publicly available data, normally we will use the publicly available figures as a matter of practice. See Bearings from France, 75 FR at 53663.

We will instruct CBP to assess antidumping duties on all appropriate entries covered by this review if any importer-specific assessment rate calculated in the final results of this review is above de minimis. Pursuant to 19 CFR 351.106(c)(2), we will instruct CBP to liquidate without regard to antidumping duties any entries for which the assessment rate is de minimis. The final results of this review shall be the basis for the assessment of antidumping duties on entries of merchandise covered by the final results of this review and for future deposits of estimated duties, where applicable. See 751(a)(2)(C) of the Act.

The Department clarified its “automatic assessment” regulation on May 6, 2003. See Assessment Policy Notice. This clarification will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediary involved in the transaction. See Assessment Policy Notice for a full discussion of this clarification.

Cash Deposit Requirements

The following cash deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously reviewed or investigated companies not participating in this review, the cash deposit rate will continue to be the company-specific rate published for the most recent period; (3) if the exporter is not a firm covered in this review, or the original less-than-fair-value (LTFV) investigation, but the manufacturer is, the cash deposit rate will be the rate established for the most recent period for the manufacturer of the merchandise; and (4) the cash deposit rate for all other manufacturers or exporters will continue to be 5.34 percent, the all-others rate made effective by the Section 129 Determination.¹³ These deposit requirements, when imposed, shall remain in effect until further notice.

¹³ Effective January 16, 2009, there is no longer a cash deposit requirement for certain producers/exporters in accordance with the Implementation of the Findings of the WTO Panel in United States Antidumping Measure on Shrimp from Thailand: Notice of Determination under Section 129 of the Uruguay Round Agreements Act and Partial Revocation of the Antidumping Duty Order on Frozen Warmwater Shrimp from Thailand, 74 FR 5638 (Jan. 30, 2009) (Section 129 Determination).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice are published in accordance with sections 751(a)(1) and 777(i) of the Act and 19 CFR 351.221(b)(4).

Dated: February 28, 2011.
Paul Piquado,
Acting Deputy Assistant Secretary for Import Administration.

[FR Doc. 2011-4978 Filed 3-3-11; 8:45 am]

BILLING CODE 3510-DS-P